DEPARTMENT OF JUSTICE

[OMB Number 1110-0039]

Agency Information Collection Activities; Proposed eCollection eComments Requested; Extension of a Currently Approved Collection; FBI Bioterrorism Preparedness Act Entity/Individual Information

AGENCY: Federal Bureau of Investigation, Department of Justice.

ACTION: 60-Day notice.

SUMMARY: The Federal Bureau of Investigation (FBI), Criminal Justice Information Services (CJIS) Division, Department of Justice (DOJ), will be submitting the following information collection request to the Office of Management and Budget (OMB) for review and approval in accordance with the Paperwork Reduction Act of 1995.

DATES: Comments are encouraged and will be accepted for 60 days until July 8, 2024.

FOR FURTHER INFORMATION CONTACT: If you have additional comments especially on the estimated public burden or associated response time, suggestions, or need a copy of the proposed information collection instrument with instructions or additional information, please contact: Timothy R. Wiles, National Instant Criminal Background Check System Section (NICS), NICS External Service Unit, Federal Bureau of Investigation, CJIS Division, 1000 Custer Hollow Road, Clarksburg, West Virginia 26306; nicsliaison@fbi.gov, (304) 625-2000.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: On June 13, 2002, the President of the United States signed the Public Health and Bioterrorism Preparedness and Response Act of 2002, (Bioterrorism Act), Public Law 107-188 into effect. Under this Act, the Secretaries of the United States Department of Agriculture (USDA) and Health and Human Services (HHS), in consultation with the Attorney General, are responsible for establishing appropriate safeguards and security requirements to prevent access to select agents and toxins for use in domestic or international terrorism or for any other criminal purpose.

On January 30, 2003, the U.S. Attorney General directed the FBI to conduct the Bioterrorism Security Risk Assessments (SRAs) under sections 201, 212 and 221 of the Public Health Security and Bioterrorism Act, Public Law 107-188, 166 Stat. 594 (2002). On March 25, 2003, FBI Director Mueller directed the Criminal Justice Information Services (CJIS) Division to promptly conduct the Bioterrorism SRAs. Under this delegation, the FBI receives biometric and biographic information submitted by individuals requesting access to select agents and toxins; utilizes criminal, immigration, national security and other electronic databases that are available to the Federal Government to conduct SRAs of such individuals; and consult with appropriate officials of the HHS and the USDA to determine whether certain individuals should be disqualified from possessing, using or transferring select agents and toxins.

Overview of This Information Collection

1. Type of Information Collection: Extension of a currently approved collection.

2. The Title of the Form/Collection: Federal Bureau of Investigation Bioterrorism Preparedness Act: Entity/Individual Information.

3. The agency form number, if any, and the applicable component of the Department sponsoring the collection: The form is FD-961. The applicable component within the Criminal Justice Information Services Division, Department of Justice (DOJ), Federal Bureau of Investigation (FBI).

4. Affected public who will be asked or required to respond, as well as the obligation to respond:

Primary: Those individuals applying for access to biological select agents and toxins. This collection is needed for the FBI to conduct security risk assessments (SRAs)required by the Bioterrorism Act and to determine whether applicants should be denied access to or granted limited access to specific agents and toxins. That information is then used by the FBI in consultations with appropriate officials of the Department of Health and Human Services (HHS) and the Department of Agriculture (USDA) as to whether certain individuals specified in the provisions should be denied access to or granted limited access to specific agents.

Obligation to respond: Individuals voluntarily provide the requested/collected information; however, providing such information is required in order to obtain approval for access to select agents and toxins. (Sections 201, 212 and 221 of the Public Health Security and Bioterrorism Act, Public Law 107-188, 166 Statute 594 (2002).

5. An estimate of the total number of respondents and the amount of time estimated for an average respondent to respond: There are approximately 3,007 (FY 2023) respondents at 1 hour 30 minutes for the FD-961 form.

6. An estimate of the total annual burden (in hours) associated with the collection: The total annual burden hours for this collection is estimated to be 4,510.5 burden hours (3,007 × 90min/60 = 4,510.5)

7. An estimate of the total annual cost burden associated with the collection, if applicable: Respondents will incur the estimated cost of $3.07 for postage fees to submit the FD-961 form and two completed fingerprint cards. It is estimated that the cost to the applicant to submit a photograph that meets criteria specified in the instruction pages based on national averages would be $15 at the post office. It is estimated that each applicant would travel approximately 3 miles one way and 6 miles round trip to a business to obtain their photo. This distance is estimated to take an amount of five minutes each way for a total of 10 minutes round trip. Also, to determine the travel cost to the respondent, the Department of Justice (DOJ) is factoring in the General Services Administration (GSA) reimbursement rate of $0.67 mile for privately owned automobiles (POA) use as of January 1, 2024. Therefore, the cost to the respondent to travel this distance is estimated to be $4.02.

3,007 (number of respondents) × (6 (miles) × $0.67 (amount per mile)) = $12,088.14

3,007 (number of respondents × $3.07 (postage) = $9,231.49

3,007 (number of respondents × $15.00 (picture at USPS) = $45,105

The total annual cost incurred by the FY2023 respondents is ($12,088.14 + $9,231.49 + $45,105) = $66,424.63 or $66,424.63/3,007 ($22.09 per person.)

Total Burden Hours
Activity | Number of respondents | Frequency | Total annual responses | Time per response (min) | Total annual burden (hours)
Complete form and travel time for photo for respondent | 3,007 | 1/annually | 3,007 | 90 | 4,510.5
Unduplicated Totals | 3,007 | 1/annually | 3,007 | 90 | 4,510.5

If additional information is required contact: Darwin Arceo, Department Clearance Officer, United States Department of Justice, Justice Management Division, Policy and Planning Staff, Two Constitution Square, 145 N Street NE, 4W-218, Washington, DC.

Dated: May 1, 2024.
Darwin Arceo,
Department Clearance Officer for PRA, U.S. Department of Justice.

[FR Doc. 2024-09859 Filed 5-6-24; 8:45 am]

BILLING CODE 4410-02-P